DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based upon the petitioner's statements, comments and information submitted by interested persons, and a field investigation of the conditions at the mine. MSHA, as designee of the Secretary, has granted or partially granted the requests for modification listed below. In some instances, the decisions are conditioned upon compliance with stipulations stated in the decision. The term AFR Notice appears in the list of affirmative decisions below. The term refers to the Federal Register volume and page where MSHA published a notice of the filing of the petition for modification.

FOR FURTHER INFORMATION CONTACT: Petitions and copies of the final decisions are available for examination by the public in the Office of Standards, Regulations, and Variances, MSHA, 1100 Wilson Boulevard, Room 2352, Arlington, Virginia 22209. Contact Barbara Barron at 202-693-9447.

Dated at Arlington, Virginia this 19th day of June 2003.
Marvin W. Nichols, Jr.,
Director, Office of Standards, Regulations, and Variances.

Affirmative Decisions on Petitions for Modification

Docket No.: M-2001-027-C.

FR Notice: 66 FR 30232.

Petitioner: Eighty-four Mining Company.

Regulation Affected: 30 CFR 75.312(c).

Summary of Findings: Petitioner's proposal is to test automatic closing doors and the automatic fan signal devices at least every 31 days without shutting down the fan and without removing miners from the mine, to eliminate the hazards associated with shutting down the fan. This is considered an acceptable alternative method for the Mine 84. MSHA grants the petition for modification for tests of (1) the automatic fan stoppage signal device; and (2) the automatic closing air flow reversal prevention doors to be performed without shutting down the mine fan without removing the miners from the mine at the Mine 84 with conditions.

Docket No.: M-2001-061-C.

FR Notice: 66 FR 34466.

Petitioner: Cumberland River Coal Company.

Regulation Affected: 75.364(b)(2) & (4).

Summary of Findings: Petitioner's proposal is to establish two monitoring stations to evaluate the air entering and leaving the area of the return air course where the roof is deteriorating. The petitioner will have a certified person examine the monitoring stations on a weekly basis and record the date, his/her initials, time of examination, and the quantity and quality of air in a book or on a date board maintained on the surface of the mine and made accessible to all interested parties. This is considered an acceptable alternative method for the Band Mill Mine. MSHA grants the petition for modification for the examination of approximately 600 feet of unsafe-to-travel air course in the 2 East Submains which ventilates the 1-Left Panel off of 2 East Submain mine seals at the Band Mill Mine with conditions.

Docket No.: M-2001-075-C.

FR Notice: 66 FR 41891.

Petitioner: Rockhouse Creek Development Corporation.

Regulation Affected: 30 CFR 75.1103-4(a).

Summary of Findings: Petitioner's proposal is to install a low-level carbon monoxide detection system as an early warning fire detection system in all belt entries. This is considered an acceptable alternative method for the No. 1 Deep Mine. MSHA grants the petition for modification for the use of a carbon monoxide monitoring system that identifies the location of sensors in lieu of identifying belt flights at the No. 1 Deep Mine with conditions.

Docket No.: M-2001-103-C.

FR Notice: 66 FR 64993.

Petitioner: Consol Pennsylvania Coal Company.

Regulation Affected: 30 CFR 75.312(c) and (d).

Summary of Findings: Petitioner's proposal is to test automatic closing doors and the automatic fan signal devices at least every 31 days without shutting down the fan and without removing miners from the mine, to eliminate the hazards associated with shutting down the fan. This is considered an acceptable alternative method for the Enlow Fork Mine. MSHA grants the petition for modification for tests of (1) the automatic fan stoppage signal device; and (2) the automatic closing air flow reversal prevention doors to be performed without shutting down the mine fan without removing the miners from the mine at the Enlow Fork Mine with conditions.

Docket No.: M-2001-106-C.

FR Notice: 67 FR 1368.

Petitioner: Aracoma Coal Company.

Regulation Affected: 30 CFR 75.900.

Summary of Findings: Petitioner's proposal is to use a properly rated vacuum contactor for under-voltage circuit protection and phase circuit protection. The petitioner proposes to also use a neutral grounding resister not more than 15 amperes for 480-volt circuit and/or over-current circuit protection, and conduct monthly examinations on each circuit for proper operation of the contactor and actuated under-voltage and grounded phase trip devices. This is considered an acceptable alternative method for the Aracoma Alma Mine No. 1. MSHA grants the petition for modification to allow the use of contactors to provide under-voltage, grounded phase, and monitor the grounding conductors for low and medium-voltage power circuits serving three-phase alternating current equipment located at the Aracoma Alma Mine with conditions.

Docket No.: M-2001-113-C.

FR Notice: 67 FR 07551.

Petitioner: Centralia Mining.

Regulation Affected: 30 CFR 49.2(b).

Summary of Findings: Petitioner's proposal is to permit the reduction of two mine rescue teams with five members and one alternate each, to two mine rescue teams or three members with one alternate who serves both teams at its Skidmore Slope Mine. This is considered an acceptable alternative method for use at the Skidmore Slope Mine. MSHA grants the petition for modification for the Skidmore Slope Mine to allow each of the two mine rescue teams to include three members with one alternate who serves both teams. All mine rescue team members and the alternate shall be fully qualified, trained, and equipped for providing emergency mine rescue service in anthracite mines.

Docket No.: M-2001-123-C.

FR Notice: 67 FR 6754.

Petitioner: Warrior Coal, LLC.

Regulation Affected: 30 CFR 75.1103-4(a).

Summary of Findings: Petitioner's proposal is to install a carbon monoxide detection system that identifies the location of sensors in lieu of identifying belt flights. This is considered an acceptable alternative method for the Cardinal Mine. MSHA grants the petition for modification for the Cardinal Mine to allow the location of a CO sensor signaling an alert or alarm to identify the belt flight on which a fire is detected with conditions.

Docket No.: M-2001-125-C.

FR Notice: 67 FR 6755.

Petitioner: Oxbow Mining, LLC.

Regulation Affected: 30 CFR 75.701.

Summary of Findings: Petitioner's proposal is to use a 480-volt, wye connected, 260 KW portable diesel generator for utility power and to move and operate electrically powered mobile equipment and stationary equipment throughout the mine. This is considered an acceptable alternative method for the Elk Creek Mine. MSHA grants the petition for modification for use of the 480-volt, three-phase, 320KW/400KVA diesel powered generator (DPG) set supplying power to a three-phase transformer, and three-phase 480-volt, and 995-volt power circuits Elk Creek Mine with conditions.

Docket No.: M-2001-126-C.

FR Notice: 67 FR 6755.

Petitioner: Oxbow Mining, LLC.

Regulation Affected: 30 CFR 75.901(a).

Summary of Findings: Petitioner's proposal is a 480-volt, wye connected, 260 KW portable diesel generator for utility power and to move and operate electrically powered mobile equipment and stationary equipment throughout the mine. This is considered an acceptable alternative method for the Elk Creek Mine. MSHA grants the petition for modification for use of the 480-volt, three-phase, 260 KW 300KVA diesel powered generator set supplying power to a three-phase transformer, and three-phase 480-volt, and 995-volt power circuits at the Elk Creek Mine with conditions.

Docket No.: M-2002-013-C.

FR Notice: 67 FR 13197.

Petitioner: Snyder Coal Company.

Regulation Affected: 30 CFR 75.1100-2(a).

Summary of Findings: Petitioner's proposal is to use portable fire extinguishers where rock dust, water cars, and other water storage equipped with three (3) ten quart pails is not practical. The petitioner proposes to use two (2) fire extinquishers near the slope bottom and an additional portable fire extinguisher within 500 feet of the working face for equivalent fire protection at the N & L Slope Mine. This is considered an acceptable alternative method for the N & L Slope Mine. MSHA grants the petition for modification for the use of firefighting equipment in the working section at the N & L Slope Mine with conditions.

Docket No.: M-2002-015-C.

FR Notice: 67 FR 14977.

Petitioner: Peabody Coal Company.

Regulation Affected: 30 CFR 75.364(b)(2).

Summary of Findings: Petitioner's proposal is to continuously monitor methane and oxygen concentrations at evaluation points closest to the mine fan and XC-91 using a Conspec Mine Monitoring system that would be manned around the clock and set up to alarm at oxygen levels less than 19.5% and methane levels greater than 1.0%. This is considered an acceptable alternative method for the Camp #11 Mine. MSHA grants the petition for modification for the use of continuous monitoring using intrinsically safe sensors installed as part of the mine's Atmospheric Monitoring System and weekly evaluation of air entering and leaving approximately 1600 feet of 1st Main South West return air course which ventilates the accessible 2nd Panel Southeast Mine seals at the Camp #11 Mine with conditions.

Docket No.: M-2002-016-C.

FR Notice: 67 FR 14977.

Petitioner: Blue Diamond Coal Company.

Regulation Affected: 30 CFR 77.214(a).

Summary of Findings: Petitioner's proposal is to place Coarse Refuse Fill #1 over abandoned mine openings located in the Leatherwood (5A) seam. Coarse refuse at the Beech Fork Refuse Fill, formerly the Beech Fork Slurry Impoundment, will cover the sealed drift mine openings and auger holes into the Leatherwood coal seam. The seam dips west toward the present Stonecoal Branch Slurry Impoundment. This is considered an acceptable alternative method for the #76 Preparation Plant. MSHA grants the petition for modification for the #76 Preparation Plant with conditions.

Docket No.: M-2002-017-C.

FR Notice: 67 FR 14977.

Petitioner: Knox Creek Coal Corporation.

Regulation Affected: 30 CFR 75.350.

Summary of Findings: Petitioner's proposal is to install a low-level carbon monoxide detection system as an early warning fire detection system in all belt entries used as intake spacing between air courses. This is considered an acceptable alternative method for the Tiller No. 1 Mine. MSHA grants the petition for modification to allow air coursed through conveyor belt haulage entries to be used to ventilate active working places at the Tiller No. 1 Mine with conditions.

Docket No.: M-2002-018-C.

FR Notice: 67 FR 14977.

Petitioner: Paramont Coal Company Virginia, LLC (Formerly Paramont Coal Corporation, Commonwealth #5 Mine).

Regulation Affected: 30 CFR 75.350.

Summary of Findings: Petitioner's proposal is to use belt air to ventilate active working places by installing a low-level carbon monoxide detection system as an early warning fire detection system in all belt entries used as an intake air course. This is considered an acceptable alternative method for the Deep Mine #26. MSHA grants the petition for modification to allow air coursed through conveyor belt haulage entries to be used to ventilate active working places at the Deep Mine #26 with conditions.

Docket No.: M-2002-020-C.

FR Notice: 67 FR 14977.

Petitioner: Alfred Brown Coal Company.

Regulation Affected: 30 CFR 75.1400(c).

Summary of Findings: Petitioner's proposal is to use a slope conveyance (gunboat) with increased rope strength and secondary safety rope connections instead of safety catches or other no less effective devices to transport persons. This is considered an acceptable alternative method for the 7 Ft Slope Mine. MSHA grants the petition for modification for the hoist conveyance (gunboat) without safety catches at the 7 Ft Slope Mine with conditions.

Docket No.: M-2002-023-C.

FR Notice: 67 FR 14978.

Petitioner: Alfred Brown Coal Company.

Regulation Affected: 30 CFR 75.360(b)(5).

Summary of Findings: Petitioner's proposal is to conduct a visual examination of each seal from the slope gunboat for physical damage during the pre-shift examination after an air quantity reading is taken in by the intake portal. The examination will be conducted before every shift. A certified person designated by the operator will take air readings at the top of the slope and in the gangway just off the slope. The air readings will be taken to determine the quality of air entering the mine and working section by testing for methane and oxygen deficiency, to determine the volume of air entering the working section, and to determine if the air is moving in the proper direction. This is considered an acceptable alternative method for the 7 Ft Slope Mine. MSHA grants the petition for modification for examinations of seals (conducted from the gunboat) in the intake air haulage slope of the 7 Ft Slope Mine with conditions.

Docket No.: M-2002-024-C.

FR Notice: 67 FR 14978.

Petitioner: Alfred Brown Coal Company.

Regulation Affected: 30 CFR 75.1200(d), (h), and (i).

Summary of Findings: Petitioner's proposal is to use cross-sections instead of contour lines through the intake slope, at locations of rock tunnel connections between veins, and at 1,000 foot intervals of advance from the intake slope; and to limit the required mapping of the mine workings above and below to those present within 100 feet of the vein being mined. This is considered an acceptable alternative method for the 7 Ft Slope Mine. MSHA grants the petition for modification for the 7 Ft Slope Mine with conditions.

Docket No.: M-2002-036-C.

FR Notice: 67 FR 19286.

Petitioner: New Century Mining, Inc.

Regulation Affected: 30 CFR 77.214(a).

Summary of Findings: Petitioner's proposal is to construct a coarse refuse disposal area (Coarse Refuse Disposal Area No. 5) within the face-up area of the abandoned Kodiak Mine No. 1. This is considered an acceptable alternative method for the Pineywoods Preparation Plant. MSHA grants the petition for modification for the Pineywoods Preparation Plant (I.D. No. 01-02976) with conditions.

Docket No.: M-2002-039-C.

FR Notice: 67 FR 31835.

Petitioner: Consol of Pennsylvania Coal Company.

Regulation Affected: 30 CFR 75.503 and 30 CFR 18.35.

Summary of Findings: Petitioner's proposal is to increase the maximum length of trailing cables for continuous mining machines to 950 feet. This is considered an acceptable alternative method for the Enlow Fork Mine. MSHA grants the petition for modification to apply only to trailing cables that supply 995-volt, three-phase, alternating current to continuous mining machine(s) with conditions.

Docket No.: M-2002-045-C.

FR Notice: 67 FR 39746.

Petitioner: Consolidation Coal Company.

Regulation Affected: 30 CFR 75.364(b)(2).

Summary of Findings: Petitioner's proposal is to establish evaluation check points in an area of the return air course where roof conditions are deteriorating and expose persons to hazardous conditions. This is considered an acceptable alternative method for the Blacksville No. 2 Mine. MSHA grants the petition for modification for the unsafe-to-travel segment (approximately 2,000 feet) of the multiple common return entries for 2 West Panel approaching Wana Air Shaft at the Blacksville No. 2 Mine with conditions.

Docket No.: M-2002-050-C.

FR Notice: 67 FR 45553.

Petitioner: Bubber Coal Company, Inc.

Regulation Affected: 30 CFR 75.503 and 30 CFR 18.41(f).

Summary of Findings: Petitioner's proposal is to permanently install spring-loaded locking devices instead of using padlocks to prevent unintentional loosening of battery plugs from battery receptacles and to eliminate the hazards associated with difficult removal of padlocks during emergency situations. This is considered an acceptable alternative method for the No. 1 Mine. MSHA grants the petition for modification for the use of permanently installed spring-loaded locking devices in lieu of padlocks on battery plugs at the No. 1 Mine with conditions.

Docket No.: M-2002-052-C.

FR Notice: 67 FR 49966.

Petitioner: Titan Mining, Inc.

Regulation Affected: 30 CFR 75.1103-4(a).

Summary of Findings: Petitioner's proposal is to install a carbon monoxide monitoring system as an early warning fire detection system in all belt entries to identify a sensor location in lieu of identifying each belt flight. This is considered an acceptable alternative method for the Laurel Fork Deep Mine. MSHA grants the petition for modification for use at the Laurel Fork Mine with conditions.

Docket No.: M-2002-057-C.

FR Notice: 67 FR 49966.

Petitioner: Highland Mining Company.

Regulation Affected: 30 CFR 75.350.

Summary of Findings: Petitioner's proposal is to use air coursed through belt haulage entries to ventilate active working places. The petitioner proposes to install a carbon monoxide monitoring system as an early warning fire detection system all belt entries used to course intake air to a working place. This is considered an acceptable alternative method for the Highland 11 Mine. MSHA grants the petition for modification for use at the Highland 11 Mine with conditions.

Docket No.: M-2002-059-C.

FR Notice: 67 FR 49967.

Petitioner: Consol of Kentucky, Inc.

Regulation Affected: 30 CFR 75.1101-8.

Summary of Findings: Petitioner's proposal is to use a single overhead pipe system with ½-inch orifice automatic sprinklers located on 10-foot centers, to cover 50 feet of fire-resistant belt or 150 feet of non-fire resistant belt, with actuation temperatures between 200 and 230 degrees Farenheit, and with water pressure equal to or greater than 10 psi. This is considered an acceptable alternative method for the Beaver Gap E-3 Mine. MSHA grants the petition for modification for use at the Beaver Gap E-3 Mine with conditions.

Docket No.: M-2002-069-C.

FR Notice: 67 FR 54676.

Petitioner: Oxbow Mining, LLC.

Regulation Affected: 30 CFR 75.350.

Summary of Findings: Petitioner's proposal is to use air coursed through the conveyor belt haulage entries to ventilate working places by installing a carbon monoxide monitoring system as an early warning fire detection system in all belt entries used to course intake air to a working place. This is considered an acceptable alternative method for the Elk Creek Mine. MSHA grants the petition for modification for the use at the Elk Creek Mine with conditions.

Docket No.: M-2002-071-C.

FR Notice: 67 FR 59317.

Petitioner: F-M Coal Corporation.

Regulation Affected: 30 CFR 75.380(f)(4)(i).

Summary of Findings: Petitioner's proposal is to use two five-pound and one ten-pound portable chemical fire extinguisher on each Mescher tractor at the Mine No. 4. The tractor operator will inspect each fire extinguisher on a daily basis prior to entering the escapeway and keep a record at the mine of all inspections. The petitioner proposes to maintain a sufficient number of fire extinguishers at the mine in case a defective fire extinguisher is detected. This is considered an acceptable alternative method for the Mine No. 4. MSHA grants the petition for modification for the use Mine No. 4 with conditions.

Docket No.: M-2002-081-C.

FR Notice: 67 FR 6316.

Petitioner: Remington Coal Company, Inc.

Regulation Affected: 30 CFR 75.1700.

Summary of Findings: Petitioner's proposal is to plug and mine through oil and gas wells. This is considered an acceptable alternative method for the Stockburg No. 1 Mine. MSHA grants the petition for modification for mining through or near (whenever the safety barrier diameter is reduced to a distance less than the District Manager would approve pursuant to Section 75.1700) plugged oil or gas wells penetrating the Stockton and Coalburg Coal Seams and other minable coal seams using continuous miners, conventional mining, or longwall mining methods at the Stockburg No. 1 Mine with conditions.

Docket No.: M-2002-085-C.

FR Notice: 67 FR 66168.

Petitioner: KenAmerican Resources, Inc.

Regulation Affected: 30 CFR 75.380(g).

Summary of Findings: Petitioner's proposal is to request a variance from the existing standard so that the primary escapeway for the #9 Slope would not be required to be separated from the belt entries until the initial development stage is completed, that is, when connection is made to the airshaft. This is considered an acceptable alternative method for the Brier Creek Mine. MSHA grants the petition for modification for the slope, during initial development, until development can progress to the airshaft and make connection at the Brier Creek Mine with conditions.

Docket No.: M-2002-087-C.

FR Notice: 67 FR 66169.

Petitioner: Highland Coal Company (Formerly Peabody Coal Company).

Regulation Affected: 30 CFR 75.1002.

Summary of Findings: Petitioner's proposal is to amend its previously granted petition for modification, docket number M-2002-040-C, to revise 30 CFR 75.1002 paragraph 14(b) of same section, to allow routine use of cable crossovers, and to revise paragraph 43(b), to allow a temporary transformer that is not mounted to the mining machine. The petitioner's proposed alternative method is essentially the same as the special terms and conditions previously granted under the Proposed Decision and Order (PDO) of docket number M-2001-040-C. The significant difference in the proposed alternative method address the method of powering the tram motors of the miner during equipment moves, and proposed wording changes and additions to clarify the intent of Item No. 14. This is considered an acceptable alternative method for the Highland Mine. MSHA grants the petition for modification for the 2400-volt high-voltage continuous miner(s) at the Highland Mine with conditions.

Docket No.: M-2002-089-C.

FR Notice: 67 FR 66169.

Petitioner: Europa Coal Company, Inc.

Regulation Affected: 30 CFR 75.1002.

Summary of Findings: Petitioner's proposal is use a Joy 12CM27 continuous miner which operates at 2,400 volts. This is considered an acceptable alternative method for the Dry Branch Coalburg Mine. MSHA grants the petition for modification to use 2,400-volt high-voltage continuous miner at the Dry Branch Coalburg Mine with conditions.

Docket No.: M-2002-100-C .

FR Notice: 67 FR 7198.

Petitioner: Highland Mining Company.

Regulation Affected: 30 CFR 75.503 and 30 CFR 18.41(f) .

Summary of Findings: Petitioner's proposal is to use spring-loaded locking device on battery plug connectors on mobile battery-powered equipment to prevent the threaded ring securing the battery plugs to the battery receptacles from unintentional loosening, and attach locking device brackets to the battery receptacles to prevent the loss of the brackets. The petitioner proposes to install a warning tag on all battery plug connectors that states “Do Not Disengage Under Load,” and provide instructions on the safe practices and provisions to all persons who operate or maintain the battery-powered machines. The petitioner will revise its training plan to specify initial and refresher training for use of the spring-loaded devices. This is considered an acceptable alternative method for the Highland #11 Mine. MSHA grants the petition for modification for the use of permanently installed spring-loaded locking devices in lieu of padlocks on battery plug and receptacle-type connectors for mobile battery-powered equipment at the Highland #11 Mine with conditions.

Docket No.: M-2002-101-C.

FR Notice: 67 FR 71989 .

Petitioner: Oxbow Mining, LLC.

Regulation Affected: 30 CFR 75.1909(b)(6).

Summary of Findings: Petitioner's proposal is to operate its diesel grader at a maximum speed of between 10 and 12 miles per hour or less, train all grader operators to lower the moldboard (grader Blade) for additional stopping capability in emergencies, and to recognize appropriate levels of speed for different road conditions and slopes. This is considered an acceptable alternative method for the Elk Creek Mine. MSHA grants the petition for modification for the Elk Creek Mine with conditions. The Proposed decision and Order is limited in application to the Getman RDG-1504C, diesel graders (Roadbuilder), which has 6 wheels.

Docket No.: M-2002-108-C .

FR Notice: 67 FR 78822.

Petitioner: A, B & J Coal Company.

Regulation Affected: 30 CFR 75.503 and 30 CFR 18.41(f).

Summary of Findings: Petitioner's proposal is to use a permanently installed spring-loaded locking device on battery plug connectors on mobile battery-powered equipment in lieu of padlocks. The spring-loaded locking device would prevent unintentional loosening of the battery plugs from battery receptacles and eliminate the hazards associated with difficult removal of padlocks during emergency situations. This is considered an acceptable alternative method for the Mine #3C. MSHA grants the petition for modification for the use of permanently installed spring-loaded locking devices in lieu of padlocks on battery plug and receptacle-type connectors for mobile battery-powered equipment Mine #3C with conditions.

Docket No.: M-2002-118-C.

FR Notice: 68 FR 1485.

Petitioner: Canyon Fuel Company, LLC.

Regulation Affected: 30 CFR 75.507.

Summary of Findings: Petitioner's proposal is to install and use a non-permissible, 4,160-volt AC power submersible pump in a cased borehole which penetrates an abandoned and sealed portion of the Skyline Mine No. 3, Level 2 workings. This is considered an acceptable alternative method for the Skyline Mine No. 3. MSHA grants the petition for modification for the use of 4,160-volt, three-phase, alternating current submersible pumps installed in boreholes in the Skyline Mine No. 3 with conditions.

Docket No.: M-2003-004-C.

FR Notice: 68 FR 5664 .

Petitioner: Remington Coal Company, Inc.

Regulation Affected: 30 CFR 75.1002.

Summary of Findings: Petitioner's proposal is to use a 2,400 volt Joy 14CM27 continuous mining machine in lieu of the 2,400 volt Joy 12CM27 continuous mining machine currently being used at the Stockburg No. 1 Mine. This is considered an acceptable alternative method for the Stockburg No. 1 Mine. MSHA grants the petition for modification for the use of the 2,400-volt high-voltage continuous miner(s) at the Stockburg No. 1 Mine with conditions.

Docket No.: M-2001-004-M.

FR Notice: 66 FR 52156.

Petitioner: Kennecott Utah Copper Corporation.

Regulation Affected: 30 CFR 56.14109.

Summary of Findings: Petitioner's proposal is to use emergency stop devices in the form of a hand-held portable radio at portions of the Bingham Canyon Mine's Mine-Concentrator Conveyor where pull-cords or railings are not located. When the radio is activated through a single push-button at any position along the beltway, the conveyor motor will be deactivated and the belt will stop and miners will be prevented from contacting moving conveyor belts and receiving serious injuries. This is considered an acceptable alternative method for the Bingham Canyon Mine. MSHA grants the petition for modification for the Bingham Canyon Mine with conditions.

Docket No.: M-2002-001-M.

FR Notice: 67 FR 11718.

Petitioner: OCI Wyoming, LP.

Regulation Affected: 30 CFR 57.22305.

Summary of Findings: Petitioner's proposal is to use a 12 to 18 volt battery powered cordless drill manufactured by Black & Decker, DeWalt, Makita, Milwaukee or Hilti, or use similar battery powered drills for an indefinite period of time, in or beyond the last open crosscut. This is considered an acceptable alternative method for the Big Island Mine. MSHA grants the petition for modification for the Big Island Mine with conditions.

[FR Doc. 03-16248 Filed 6-26-03; 8:45 am]

BILLING CODE 4510-43-P